DEPARTMENT OF ENERGY

Federal Energy Regulatory Commission

Combined Notice of Filings #1

Take notice that the Commission received the following electric corporate filings:

Docket Numbers: EC24-54-000.

Applicants: Public Service Company of New Mexico, Arroyo Solar LLC.

Description: Joint Application for Authorization Under Section 203 of the Federal Power Act of Public Service Company of New Mexico, et al.

Filed Date: 2/28/24.

Accession Number: 20240228-5265.

Comment Date: 5 p.m. ET 3/20/24.

Take notice that the Commission received the following exempt wholesale generator filings:

Docket Numbers: EG24-122-000.

Applicants: Flatland Storage LLC.

Description: Flatland Storage LLC submits Notice of Self-Certification of Exempt Wholesale Generator Status.

Filed Date: 2/29/24.

Accession Number: 20240229-5166.

Comment Date: 5 p.m. ET 3/21/24.

Docket Numbers: EG24-123-000.

Applicants: Hickory Solar LLC.

Description: Hickory Solar LLC submits Notice of Self-Certification of Exempt Wholesale Generator Status.

Filed Date: 2/29/24.

Accession Number: 20240229-5178.

Comment Date: 5 p.m. ET 3/21/24.

Docket Numbers: EG24-124-000.

Applicants: Ragsdale Solar, LLC.

Description: Ragsdale Solar, LLC submits Notice of Self-Certification of Exempt Wholesale Generator Status.

Filed Date: 2/29/24.

Accession Number: 20240229-5180.

Comment Date: 5 p.m. ET 3/21/24.

Docket Numbers: EG24-125-000.

Applicants: Randolph Solar Park LLC.

Description: Randolph Solar Park LLC submits Notice of Self-Certification of Exempt Wholesale Generator Status.

Filed Date: 2/29/24.

Accession Number: 20240229-5183.

Comment Date: 5 p.m. ET 3/21/24.

Docket Numbers: EG24-126-000.

Applicants: Wolf Run Solar LLC.

Description: Wolf Run Solar LLC submits Notice of Self-Certification of Exempt Wholesale Generator Status.

Filed Date: 2/29/24.

Accession Number: 20240229-5188.

Comment Date: 5 p.m. ET 3/21/24.

Take notice that the Commission received the following electric rate filings:

Docket Numbers: ER22-1525-000.

Applicants: Southwest Power Pool, Inc.

Description: Refund Report: People's—Refund Report in Response to Order in ER-22-1525 to be effective N/A.

Filed Date: 2/29/24.

Accession Number: 20240229-5031.

Comment Date: 5 p.m. ET 3/21/24.

Docket Numbers: ER24-965-001.

Applicants: Versant Power.

Description: Tariff Amendment: Pause Cancellation of PERC IA (ER24-965-) to be effective 5/1/2024.

Filed Date: 2/29/24.

Accession Number: 20240229-5215.

Comment Date: 5 p.m. ET 3/21/24.

Docket Numbers: ER24-1361-000.

Applicants: PJM Interconnection, L.L.C.

Description: § 205(d) Rate Filing: Amendment to WMPA, SA No. 6254; Queue No. AD2-135 to be effective 4/29/2024.

Filed Date: 2/28/24.

Accession Number: 20240228-5236.

Comment Date: 5 p.m. ET 3/20/24.

Docket Numbers: ER24-1362-000.

Applicants: Southwest Power Pool, Inc.

Description: § 205(d) Rate Filing: Revisions to the GI Procedures to Increase Study Deposits (RR 603) to be effective 5/1/2024.

Filed Date: 2/29/24.

Accession Number: 20240229-5033.

Comment Date: 5 p.m. ET 3/21/24.

Docket Numbers: ER24-1363-000.

Applicants: Southwest Power Pool, Inc.

Description: § 205(d) Rate Filing: 1313R18 Oklahoma Gas and Electric Company NITSA and NOA to be effective 2/1/2024.

Filed Date: 2/29/24.

Accession Number: 20240229-5078.

Comment Date: 5 p.m. ET 3/21/24.

Docket Numbers: ER24-1366-000.

Applicants: Tumbleweed Energy, LLC.

Description: Initial rate filing: Market-Based Rate Application and Requests for Waivers and Blanket Approvals to be effective 3/1/2024.

Filed Date: 2/29/24.

Accession Number: 20240229-5097.

Comment Date: 5 p.m. ET 3/21/24.

Docket Numbers: ER24-1367-000.

Applicants: Northern States Power Company, a Minnesota corporation.

Description: § 205(d) Rate Filing: 2024.02.29 CAPX2020 Brookings2 Joint Dev Agmt 749-NSP to be effective 2/2/2024.

Filed Date: 2/29/24.

Accession Number: 20240229-5120.

Comment Date: 5 p.m. ET 3/21/24.

Docket Numbers: ER24-1368-000.

Applicants: Ameren Illinois Company.

Description: § 205(d) Rate Filing: Notices of Cancellation to be effective 8/13/2023.

Filed Date: 2/29/24.

Accession Number: 20240229-5131.

Comment Date: 5 p.m. ET 3/21/24.

Docket Numbers: ER24-1369-000.

Applicants: New England Power Pool Participants Committee.

Description: § 205(d) Rate Filing: Mar 2024 Membership Filing to be effective 3/1/2024.

Filed Date: 2/29/24.

Accession Number: 20240229-5222.

Comment Date: 5 p.m. ET 3/21/24.

Docket Numbers: ER24-1370-000.

Applicants: Morgantown Power, LLC.

Description: Tariff Amendment: Notice of Cancellation of Reactive Service Rate Schedule to be effective 6/1/2024.

Filed Date: 2/29/24.

Accession Number: 20240229-5224.

Comment Date: 5 p.m. ET 3/21/24.

Docket Numbers: ER24-1371-000.

Applicants: Atrisco Solar SF LLC.

Description: Petition for Waivers and Blanket Authorization under Section 204 of Atrisco Solar SF LLC.

Filed Date: 2/28/24.

Accession Number: 20240228-5273.

Comment Date: 5 p.m. ET 3/20/24.

Docket Numbers: ER24-1373-000.

Applicants: Lanyard Power Holdings, LLC.

Description: Tariff Amendment: Notice of Cancellation of Reactive Service Rate Schedule to be effective 6/1/2024.

Filed Date: 2/29/24.

Accession Number: 20240229-5237.

Comment Date: 5 p.m. ET 3/21/24.

Docket Numbers: ER24-1374-000.

Applicants: Sierra Estrella Energy Storage LLC.

Description: Baseline eTariff Filing: Application for MBR Authorization and Request for Waivers to be effective 4/30/2024.

Filed Date: 2/29/24.

Accession Number: 20240229-5252.

Comment Date: 5 p.m. ET 3/21/24.

Docket Numbers: ER24-1375-000.

Applicants: Superstition Energy Storage LLC.

Description: Baseline eTariff Filing: Application for MBR Authorization and Request for Waivers to be effective 4/30/2024.

Filed Date: 2/29/24.

Accession Number: 20240229-5258.

Comment Date: 5 p.m. ET 3/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 29, 2024.
Debbie-Anne A. Reese,
Acting Secretary.

[FR Doc. 2024-04810 Filed 3-6-24; 8:45 am]

BILLING CODE 6717-01-P